DEPARTMENT OF STATE

[Public Notice 6099]

Announcement of Meetings of the International Telecommunication Advisory Committee

SUMMARY: This notice announces meetings of the International Telecommunication Advisory Committee (ITAC) to prepare for meetings of International Telecommunication Union Telecommunication Standardization Sector (ITU-T) technical Study Groups Sixteen (Multimedia terminals, systems and applications), and Seventeen (Security, languages and telecommunication software); an ITAC meeting to begin preparation of advice on the World Telecommunication Standardization Assembly 2008 (WTSA 08) and other related meetings of the ITU; and meetings in preparation for a meeting of the Organization of American States Inter-American Telecommunication Commission (CITEL) Permanent Consultative Committee II (PCC.II) (Radiocommunication including Broadcasting).

The ITAC will meet to begin preparation of advice for the government on the ITU World Telecommunication Standardization Assembly 2008 (WTSA 08) and related meetings such as the Telecommunication Sector Advisory Group (TSAG), various groups meeting on the International Telecommunication Regulations, cybersecurity, and other subjects relevant to the ITU-T for the coming 12 months. The meeting will be held on Monday afternoon March 17, 2008 2-4 p.m. EST hosted by AT&T, 1120 20th Street, 10th floor, Washington, DC. The ITAC will hold further meetings with similar agendas on April 24, May 12, and June 17. Federal Register notices will be published for each of these meetings with the specific agenda and meeting details, at the appropriate time.

The ITAC will meet to prepare advice on submission of contributions to CITEL PCC.II on March 25, April 1 and April 8, 2008, 2-4 p.m. at the Federal Communications Commission, 445 12th Street, SW., Washington, DC.

The ITAC will meet to prepare advice on submission of contributions to ITU-T SG17 on March 20, 2008, 10 a.m. to noon EST, by conference call. Call in information is either +1 210 839-8500 or 1 888 455-9640, passcode 52902.

The ITAC will meet to prepare advice on submission of contributions to ITU-T SG16 on April 24, 2008 beginning at 10 a.m. EST, by conference call. People desiring to participate in this meeting should call either +1 210 839-8500 or 1 888 455-9640, passcode 52902.

All these meetings are open to the public as seating capacity allows. The public will have an opportunity to provide comments at these meetings. People desiring further information on these meetings may apply to the secretariat at minardje@state.gov.

Dated: February 19, 2008.
Richard C. Beaird,
International Communications & Information Policy, Department of State.

[FR Doc. E8-3815 Filed 2-27-08; 8:45 am]

BILLING CODE 4710-07-P